DEPARTMENT OF HEALTH AND HUMAN SERVICES

Centers for Medicare & Medicaid Services

[CMS-1197-N]

Medicare Program; December 10-11, 2001, Meeting of the Practicing Physicians Advisory Council and Request for Nominations

AGENCY: Centers for Medicare & Medicaid Services (CMS), HHS.

ACTION: Notice.

SUMMARY: In accordance with section 10(a) of the Federal Advisory Committee Act, this notice announces a meeting of the Practicing Physicians Advisory Council and invites all organizations representing physicians to submit nominees for membership on the Council. There will be several vacancies on the Council as of February 28, 2002. The meetings are open to the public.

Meeting Registration: Persons wishing to attend this meeting must call the meeting coordinator Diana Motsiopoulos at (410) 786-3379 at least 72 hours in advance to register. Persons who are not registered in advance will not be permitted into the Federal Building and thus not be able to attend the meeting. Persons attending the meeting will be required to show a photographic identification, preferably a valid drivers' license before entering the building. Please note that if the meeting is cancelled we will post that information on our website.

DATES: The meeting is scheduled for December 10, 2001 from 8:30 a.m. until 5 p.m. e.s.t. and December 11, 2001 from 8:30 a.m. until 12 noon e.s.t.

Nominations: Nominations will be considered if received at the appropriate address, provided below no later than 5 p.m. e.s.t., December 17, 2001.

ADDRESSES: The meeting will be held in Room 800, 8th Floor, Hubert H. Humphrey Building, 200 Independence Avenue, SW., Washington, DC 20201.

Nominations: Mail or deliver nominations to the following address: Centers for Medicare and Medicaid Services, Center for Medicare Management, Office of Professional Relations, Attention: Paul Rudolf, M.D. JD, Executive Director, Practicing Physicians Advisory Council,7500 Security Boulevard, Mail Stop C5-17-14, Baltimore, MD 21244-1850.

Website: You may access the Internet at http://www.hcfa.gov/fac/ for additional information and updates on committee activities.

Advisory Committees Information Line: (1-877-449-5659 toll free)/(410-786-9379 local).

FOR FURTHER INFORMATION CONTACT: Paul Rudolf, M.D., J.D., Executive Director, Practicing Physicians Advisory Council, 7500 Security Blvd., Mail Stop C5-17-14, Baltimore, MD 21244-1850, (410) 786-3379. News media representatives should contact the CMS Press Office, (202) 690-6145.

SUPPLEMENTARY INFORMATION: The Secretary of the Department of Health and Human Services (the Secretary) is mandated by section 1868 of the Social Security Act to appoint a Practicing Physicians Advisory Council (the Council) based on nominations submitted by medical organizations representing physicians. The Council meets quarterly to discuss certain proposed changes in regulations and carrier manual instructions related to physicians' services, as identified by the Secretary. To the extent feasible and consistent with statutory deadlines, the consultation must occur before publication of the proposed changes. The Council submits an annual report on its recommendations to the Secretary and the Administrator of the Centers for Medicare & Medicaid Services not later than December 31 of each year.

The Council consists of 15 physicians, each of whom has submitted at least 250 claims for physician services under Medicare in the previous year. Members of the Council include both participating and nonparticipating physicians, and physicians practicing in rural and underserved urban areas. At least 11 of the members of the Council shall be physicians described in Section 1861(r)(1) of the Social Security Act. The remaining members may include dentists, podiatrists, optometrists and chiropractors. Members serve for overlapping 4-year terms; terms of more than 2 years are contingent upon the renewal of the Council by appropriate action prior to its termination. Section 1868(a) of the Act provides that nominations to the Secretary for Council membership must be made by medical organizations representing physicians.

The Council held its first meeting on May 11, 1992. The current members are: Jerold M. Aronson, M.D.; Richard Bronfman, D.P.M.; Joseph Heyman, M.D.; Sandral Hullett, M.D.; Stephen A. Imbeau, M.D.; Jerilynn S. Kaibel, D.C.; Angelyn L. Moultrie-Lizana, D.O.; Derrick K. Latos, M.D. (Pending re-appointment); Dale Lervick, O.D.; Sandra B. Reed, M.D.; Amilu Rothhammer, M.D.; Maisie Tam, M.D.; Victor Vela, M.D.; Kenneth M. Viste, Jr., M.D.; and Douglas L. Wood, M.D.

Council members will be updated on the status of recommendations made during the past year.

The agenda will provide for discussion and comment on the following topics:

• Advanced Beneficiary Notice (provider education materials/carrier instructions)

• Documentation Requirements for Teaching Physicians

• Physician Regulatory Issues Team (the team will seek advice on physician issues and elicit suggestions for improving agency responsiveness)

• Role of the Carrier Medical Director

• HIPAA (Health Insurance Portability and Accountability Act)

For additional information and clarification on the topics listed, call the contact person in the “For Further Information Contact” section of this notice. Individual physicians or medical organizations that represent physicians wishing to make 5-minute oral presentations on agenda issues should contact the Executive Director by 12 noon, November 19, 2001, to be scheduled. Testimony is limited to agenda topics. The number of oral presentations may be limited by the time available. A written copy of the presenter's oral remarks should be submitted to the Executive Director no later than 12 noon, November 19, 2001 for distribution to Council members for review prior to the meeting. Physicians and organizations not scheduled to speak may also submit written comments to the Executive Director and Council members. The meeting is open to the public, but attendance is limited to the space available. Individuals requiring sign language interpretation for the hearing impaired or other special accommodation should contact Diana Motsiopoulos at (410) 786-3379 at least 10 days before the meeting.

This notice also serves as an invitation to all organizations representing physicians to submit nominees for membership on the Council. Current members whose terms expire on February 28, 2002 will be considered for reappointment, if renominated, subject to the Department's administrative guidelines for advisory committee management. Each nomination must state that the nominee has expressed a willingness to serve as a Council member and must be accompanied by a short resume or description of the nominee's experience. To permit an evaluation of possible sources of conflict of interest, potential candidates will be asked to provide detailed information concerning financial holdings, consultant positions, research grants, and contracts. Section 1868(b) of the Act provides that the Council meet quarterly, as requested by the Secretary, to discuss proposed changes in regulations and manual issuance's that relate to physicians' services. Council members are expected to participate in all meetings. Section 1868(c) of the Act provides for payment of expenses and a per diem allowance for Council members at a rate equal to payment provided members of other advisory committees. In addition to making these payments, the Department of Health and Human Services/Center for Medicare and Medicaid Services provides management and support services to the Council. The Secretary will appoint new members to the Council from among those candidates determined to have the expertise required to meet specific agency needs and in a manner to ensure appropriate balance of membership.

(Section 1868 of the Social Security Act (42 U.S.C. 1395ee) and section 10(a) of Public Law 92-463 (5 U.S.C. App. 2, section 10(a)); 45 CFR part 11)

(Catalog of Federal Domestic Assistance Program No. 93.773, Medicare—Hospital Insurance; and Program No. 93.774, Medicare—Supplementary Medical Insurance Program)

Dated: October 24, 2001.
Thomas A. Scully,
Administrator, Centers for Medicare & Medicaid Services.

[FR Doc. 01-27121 Filed 10-25-01; 8:45 am]

BILLING CODE 4120-01-P